DEPARTMENT OF HEALTH AND HUMAN SERVICES

[Document Identifier OS-0990-0281; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-6974.

Proposed Project: Prevention Communication Formative Research—Revision—OMB No. 0990-0281—Office of Disease Prevention and Health Promotion.

Abstract: The information collected will be used as formative communication research to provide guidance to the development and implementation of its disease prevention and health promotion communication and education efforts, including the Physical Activity and Dietary Guidelines for Americans. It is necessary to obtain consumer input to better understand the informative needs, attitudes, and beliefs of the audience in order to tailor messages, as well as to assist with clarity, understandability, and acceptance of prototyped messages, materials, and online tools. This generic clearance request describes data collection activities involving a limited set of focus groups, individual interviews, Web-based concept and prototype testing, and usability and effects testing to establish a deeper understanding of the interests and needs of consumers and health intermediaries for disease prevention and health promotion information and tools. The program is requesting a three year clearance.

Estimated Annualized Burden Table
Data collection task | Instrument/form name | Number of respondents | Number of responses/ respondent | Average burden/response (in hours) | Total response burden (in hours)
In person, in-depth interviews (consumers with limited health literacy and/or Spanish speakers) | Screener | 64 | 1 | 10/60 | 10.7
| Interview | 16 | 1 | 1.5 | 24
| Confidentiality Agreement | 16 | 1 | 5/60 | 1.3
In person, in-depth interviews (health intermediaries) | Screener | 48 | 1 | 10/60 | 8
| Interview | 16 | 1 | 1.5 | 24
| Confidentiality Agreement | 16 | 1 | 5/60 | 1.3
In-person, in-depth interviews (public health professionals) | Screener | 32 | 1 | 10/60 | 5.3
| Interview | 16 | 1 | 1.5 | 24
| Confidentiality Agreement | 16 | 1 | 5/60 | 1.3
Remote, in depth interviews (consumers with limited health literacy and/or Spanish speakers) | Screener | 64 | 1 | 10/60 | 10.7
| Interview | 16 | 1 | 1.5 | 24
| Confidentiality Agreement | 16 | 1 | 5/60 | 1.3
Remote, in depth interviews (health intermediaries) | Screener | 48 | 1 | 10/60 | 8
| Interview | 16 | 1 | 1.5 | 24
| Confidentiality Agreement | 16 | 1 | 5/60 | 1.3
Remote, in depth interviews (public health professionals) | Screener | 48 | 1 | 10/60 | 8
| Interview | 16 | 1 | 1.5 | 24
| Confidentiality Agreement | 16 | 1 | 5/60 | 1.3
In person focus groups (consumers with limited health literacy) | Screener | 280 | 1 | 10/60 | 46.7
| Focus Group | 70 | 1 | 1.5 | 105
| Confidentiality Agreement | 70 | 1 | 5/60 | 5.8
In person focus groups (health intermediaries) | Screener | 210 | 1 | 10/60 | 35
| Focus Group | 70 | 1 | 1.5 | 105
| Confidentiality Agreement | 70 | 1 | 5/60 | 5.8
In person focus groups (public health professionals) | Screener | 140 | 1 | 10/60 | 23.3
| Focus Group | 70 | 1 | 1.5 | 105
| Confidentiality Agreement | 70 | 1 | 5/60 | 5.8
Remote focus groups (consumers with limited health literacy and/or Spanish speakers) | Screener | 168 | 1 | 10/60 | 28
| Focus Group | 42 | 1 | 1.5 | 63
| Confidentiality Agreement | 42 | 1 | 5/60 | 3.5
Remote focus groups (health intermediaries) | Screener | 126 | 1 | 10/60 | 21
| Focus Group | 42 | 1 | 1.5 | 63
| Confidentiality Agreement | 42 | 1 | 5/60 | 3.5
Remote focus groups (public health professionals) | Screener | 84 | 1 | 10/60 | 14
| Focus Group | 42 | 1 | 1.5 | 63
| Confidentiality Agreement | 42 | 1 | 5/60 | 3.5
In person usability and prototype testing of materials (print and Web) | Screener | 160 | 1 | 10/60 | 26.7
| Usability Test | 40 | 1 | 1.5 | 60
| Confidentiality Agreement | 40 | 1 | 5/60 | 3.3
Remote usability, prototype and concept testing | Screener | 200 | 1 | 10/60 |
| Web-test | 50 | 1 | 1 | 50
| Confidentiality Agreement | 50 | 1 | 5/60 | 4.2
In person card sorting | Screener | 120 | 1 | 10/60 | 20
| Card Sort | 30 | 1 | 1.5 | 45
| Confidentiality Agreement | 30 | 1 | 5/60 | 2.5
Web-based card sorting | Screener | 400 | 1 | 10/60 | 66.6
| Card Sort | 100 | 1 | .5 | 50
| Confidentiality Agreement | 100 | 1 | 5/60 | 8.3
Web-based message testing | Screener | 0 | 0 | 0 | 0
| Web-test | 115 | 1 | 1 | 115
| Confidentiality Agreement | 115 | 1 | 5/60 | 9.6
Childhood Obesity Prevention communications campaign | Online consumer surveys, a telephone survey and qualitative interviews | 921 | 1 | .25 | 246
TOTAL |  |  |  |  | 1642.9

Keith A. Tucker,
Office of the Secretary, Paperwork Reduction Act Reports Clearance Officer.

[FR Doc. 2012-15666 Filed 6-26-12; 8:45 am]

BILLING CODE 4150-32-P